DEPARTMENT OF ENERGY

Federal Energy Regulatory Commission

Combined Notice of Filings #1

November 20, 2008.

Take notice that the Commission received the following electric corporate filings:

Docket Numbers: EC09-22-000.

Applicants: Astoria Energy LLC.

Description: Astoria Energy LLC submits Application for Authorization under Section 203 of the Federal Power Act and Request for Expedited and Privileged Treatment.

Filed Date: 11/13/2008.

Accession Number: 20081118-0050.

Comment Date: 5 p.m. Eastern Time on Thursday, December 4, 2008.

Take notice that the Commission received the following electric rate filings:

Docket Numbers: ER97-3834-019; ER97-324-012.

Applicants: Detroit Edison Company; DTE Energy Trading, Inc.

Description: Detroit Edison Co. and DTE Energy Trading, Inc. submits an informational filing describing recent legislative change to the retail access program in Michigan.

Filed Date: 11/12/2008.

Accession Number: 20081118-0062.

Comment Date: 5 p.m. Eastern Time on Wednesday, December 3, 2008.

Docket Numbers: ER99-2311-011; ER97-2846-014.

Applicants: Carolina Power & Light Company, Florida Power Corporation.

Description: Progress Energy submits proposed revisions to the market-based rate tariffs for PEC and PEF.

Filed Date: 11/18/2008.

Accession Number: 20081118-0061.

Comment Date: 5 p.m. Eastern Time on Tuesday, December 9, 2008.

Docket Numbers: ER99-3151-010; ER97-837-009; ER03-327-004; ER08-447-002; ER08-448-002.

Applicants: PSEG Energy Resources & Trade LLC, Public Service Electric & Gas Company, PSEG Power Connecticut LLC, PSEG Fossil LLC, PSEG Nuclear LLC.

Description: PSEG Energy Resources & Trade LLC et al. submits a compliance filing in response to the Commission's 10/17/08 Order.

Filed Date: 11/17/2008.

Accession Number: 20081118-0088.

Comment Date: 5 p.m. Eastern Time on Monday, December 8, 2008.

Docket Numbers: ER99-3665-009; ER02-1947-010.

Applicants: Occidental Power Marketing L.P., Occidental Power Services, Inc.

Description: Occidental Power Marketing, LP et al. submits revised tariff sheets in compliance with the October 9 order.

Filed Date: 11/14/2008.

Accession Number: 20081118-0049.

Comment Date: 5 p.m. Eastern Time on Friday, December 5, 2008.

Docket Numbers: ER01-468-010; ER00-3621-011; ER04-318-006; ER05-37-007; ER05-36-007; ER05-34-007; ER05-35-007; ER04-249-007; ER99-1695-014; ER02-23-013; ER97-30-008; ER07-1306-006; ER97-3561-007; ER96-2869-015.

Applicants: Dominion Energy Marketing, Inc.; Dominion Nuclear Connecticut, Inc.; Dominion Energy Kewaunee, Inc.; Dominion Energy Manchester Street, Inc.; Dominion Energy Brayton Point, LLC; Dominion Energy New England, Inc.; Dominion Energy Salem; Dominion Retail, Inc.; Elwood Energy, LLC; Fairless Energy, LLC; NedPower Mount Storm, LLC; Kincaid Generation, LLC; Virginia Electric and Power Company; State Line Energy, LLC.

Description: Dominion Resources Services, Inc. et al. submits the compliance filing as required in the Commission's Order No. 697.

Filed Date: 11/17/2008.

Accession Number: 20081119-0196.

Comment Date: 5 p.m. Eastern Time on Monday, December 8, 2008.

Docket Numbers: ER05-849-010.

Applicants: California Independent System Operator C.

Description: The California Independent System Operator Corporation submits revisions to the definition of On-Site Self-Supply and to Sections 1.1 et al. of the Station Power Protocol in CAISO tariff in compliance with FERC's 10/17/08 Order.

Filed Date: 11/17/2008.

Accession Number: 20081118-0084.

Comment Date: 5 p.m. Eastern Time on Monday, December 8, 2008.

Docket Numbers: ER07-1356-006; ER07-1112-005; ER07-1113-005; ER07-1115-005; ER07-1116-004; ER07-1117-006; ER07-1358-006; ER07-1119-005; ER07-1120-005; ER07-1122-005; ER00-2885-021; ER01-2765-020; ER08-148-005; ER05-1232-014; ER02-1582-018; ER02-2102-020; ER03-1283-015.

Applicants: BE Alabama LLC, BE Allegheny LLC, BE CA LLC, BE Colquitt LLC, BE Ironwood LLC, BE KJ LLC, BE Louisiana LLC, BE Rayle LLC, BE Red Oak LLC, BE Satilla LLC, BE Walton LLC, Cedar Brakes I, L.L.C., Cedar Brakes II, LLC, Central Power & Lime, Inc., J.P. Morgan Ventures Energy Corporation, Mohawk River Funding IV, L.L.C., Utility Contract Funding, L.L.C., Vineland Energy LLC.

Description: J.P. Morgan Companies submits response to a recent request from Commission Staff regarding the updated market power analysis power and compliance filing that the JPMorgan Companies etc.

Filed Date: 11/13/2008.

Accession Number: 20081118-0058.

Comment Date: 5 p.m. Eastern Time on Friday, November 28, 2008.

Docket Numbers: ER08-556-002; ER06-615-020.

Applicants: California Independent System Operator C.

Description: California Independent System Operator Corp submits a compliance filing to the October 16 Order.

Filed Date: 11/17/2008.

Accession Number: 20081119-0199.

Comment Date: 5 p.m. Eastern Time on Monday, December 8, 2008.

Docket Numbers: ER08-637-006.

Applicants: Midwest Independent Transmission System.

Description: Midwest Independent Transmission System Operator, Inc, submits Compliance Filing responding to the Order Conditionally Accepting Compliance Filing and Requiring Further Compliance Filing.

Filed Date: 11/17/2008.

Accession Number: 20081118-0086.

Comment Date: 5 p.m. Eastern Time on Monday, December 8, 2008.

Docket Numbers: ER08-1202-003.

Applicants: Huntrise Energy Fund LLC.

Description: Huntrise Energy Fund LLC amends its petition for acceptance of initial tariff, waivers and blanket authority filed on 6/19/08.

Filed Date: 11/17/2008.

Accession Number: 20081118-0083.

Comment Date: 5 p.m. Eastern Time on Monday, December 8, 2008.

Docket Numbers: ER08-1144-001.

Applicants: PJM Interconnection, L.L.C.

Description: PJM Interconnections, LLC submits for filing revisions to Schedule 11 of the Amended and Restated Operating Agreement of PJM Interconnection, LLC pursuant to the FERC Order Accepting Tariff Revisions etc.

Filed Date: 11/17/2008.

Accession Number: 20081118-0085.

Comment Date: 5 p.m. Eastern Time on Monday, December 8, 2008.

Docket Numbers: ER08-1593-001.

Applicants: New England Power Company.

Description: Compliance Refund Report.

Filed Date: 11/18/2008.

Accession Number: 20081118-5128.

Comment Date: 5 p.m. Eastern Time on Tuesday, December 9, 2008.

Docket Numbers: ER09-298-000.

Applicants: Delmarva Power & Light Company.

Description: Delmarva Power & Light Co., Inc. submits request to change one point of injection referenced in the current interconnection agreement.

Filed Date: 11/14/2008.

Accession Number: 20081118-0042.

Comment Date: 5 p.m. Eastern Time on Friday, December 5, 2008.

Docket Numbers: ER09-299-000.

Applicants: Xcel Energy Services, Inc.

Description: Northern States Power Co-MN submits Notice of Termination of the Transmission Capacity and Planning Agreement between Northern States Power Company and Cooperative Power Association etc.

Filed Date: 11/17/2008.

Accession Number: 20081118-0079.

Comment Date: 5 p.m. Eastern Time on Monday, December 8, 2008.

Docket Numbers: ER09-300-000.

Applicants: Midwest Independent Transmission System.

Description: Midwest Independent Transmission System Operator, Inc submits proposed revisions to Attachment P contained in the Midwest ISO Open Access Transmission, Energy and Operating Reserve Markets Tariff.

Filed Date: 11/17/2008.

Accession Number: 20081118-0080.

Comment Date: 5 p.m. Eastern Time on Monday, December 8, 2008.

Docket Numbers: ER09-301-000.

Applicants: Florida Power Corporation.

Description: Florida Power Corporation submits Cost-Based Power Sales Agreement with Utilities Commission et al.

Filed Date: 11/17/2008.

Accession Number: 20081118-0081.

Comment Date: 5 p.m. Eastern Time on Monday, December 8, 2008.

Docket Numbers: ER09-302-000.

Applicants: Ameren Energy Marketing Company.

Description: Ameren Energy Marketing Company et al. submits amendments to AEG's and AERG's Ancillary Services Rate Schedules to permit AEM to continue to provide ancillary services etc.

Filed Date: 11/14/2008.

Accession Number: 20081119-0097.

Comment Date: 5 p.m. Eastern Time on Friday, December 5, 2008.

Docket Numbers: ER09-303-000.

Applicants: Union Electric Company.

Description: Union Electric Company submits filing amendments to AmerenUE's Ancillary Service Rate Schedule to permit AmerenUE to continue to provide ancillary services at its current rates for a very limited period of time etc.

Filed Date: 11/14/2008.

Accession Number: 20081119-0095.

Comment Date: 5 p.m. Eastern Time on Friday, December 5, 2008.

Docket Numbers: ER09-304-000.

Applicants: KCP&L Greater Missouri Operations Company.

Description: KCP&L Greater Missouri Operations Company submits notice of succession with respect to the electric tariffs, rate schedules, and service agreements etc.

Filed Date: 11/17/2008.

Accession Number: 20081118-0082.

Comment Date: 5 p.m. Eastern Time on Monday, December 8, 2008.

Docket Numbers: ER09-305-000.

Applicants: Cabrillo Power I LLC.

Description: Cabrillo Power I LLC submits the notice of termination of its Original Rate Schedule FERC 3, the Interim Dual Fuel Agreement between Cabrillo I and the California Independent System Operator Corporation.

Filed Date: 11/14/2008.

Accession Number: 20081119-0096.

Comment Date: 5 p.m. Eastern Time on Friday, December 5, 2008.

Docket Numbers: ER09-306-000.

Applicants: Southern California Edison Company.

Description: Southern California Edison Co. submits revised rate sheets to the Transmission Substation Facilities Agreement with the City of Azusa.

Filed Date: 11/18/2008.

Accession Number: 20081119-0195.

Comment Date: 5 p.m. Eastern Time on Tuesday, December 9, 2008.

Docket Numbers: ER09-307-000.

Applicants: Cabrillo Power II LLC.

Description: Cabrillo Power II LLC submits Notice of Termination of its First Revised Rate Schedule FERC 2, Reliability Must-Run Agreement with California Independent System Operator Corp.

Filed Date: 11/14/2008.

Accession Number: 20081119-0359.

Comment Date: 5 p.m. Eastern Time on Friday, December 5, 2008.

Docket Numbers: ER09-308-000.

Applicants: Cabrillo Power II LLC.

Description: Cabrillo Power II LLC submits Original Rate Schedule FERC No. 3 Reflecting Interim Black Start Agreement between Cabrillo Power II LLC and the California Independent System Operator Corporation.

Filed Date: 11/14/2008.

Accession Number: 20081119-0093.

Comment Date: 5 p.m. Eastern Time on Friday, December 5, 2008.

Take notice that the Commission received the following open access transmission tariff filings:

Docket Numbers: OA07-7-001; ER08-332-001; ER07-46-002; ER07-46-002

Applicants: Northwestern Corporation.

Description: NorthWestern Corporation submits Second Revised Sheet No. 8 et al. to FERC Electric Tariff, Seventh Revised Volume No. 8 et al. to be effective 11/17/08.

Filed Date: 11/17/2008.

Accession Number: 20081119-0198.

Comment Date: 5 p.m. Eastern Time on Monday, December 8, 2008.

Docket Numbers: OA07-58-002; OA08-72-001.

Applicants: Northwestern Corporation.

Description: NorthWestern Corporation submits Second Revised Sheet No. 41 et al. to FERC Electric Tariff, Seventh Revised Volume No. 41 to be effective 7/13/07.

Filed Date: 11/17/2008.

Accession Number: 20081119-0197.

Comment Date: 5 p.m. Eastern Time on Monday, December 8, 2008.

Docket Numbers: OA08-14-002.

Applicants: Midwest Independent Transmission System.

Description: Midwest Independent Transmission System Operator, Inc responds to FERC's 10/17/08 data request.

Filed Date: 11/17/2008.

Accession Number: 20081119-0315.

Comment Date: 5 p.m. Eastern Time on Monday, December 8, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E9-1016 Filed 1-16-09; 8:45 am]

BILLING CODE 6717-01-P